DEPARTMENT OF TRANSPORTATION

Federal Aviation Administration

14 CFR Part 39

[Docket No. FAA-2004-19201; Directorate Identifier 2003-NM-100-AD]

RIN 2120-AA64

Airworthiness Directives; Boeing Model 767-200, -300, and -300F Series Airplanes

AGENCY: Federal Aviation Administration (FAA), DOT.

ACTION: Notice of proposed rulemaking (NPRM).

SUMMARY: The FAA proposes to supersede an existing airworthiness directive (AD) for all Boeing Model 767-200, -300, and -300F series airplanes. That AD currently requires examination of maintenance records to determine if Titanine JC5A (also known as Desoto 823E508) corrosion inhibiting compound (“C.I.C.”) was ever used; inspection for cracks or corrosion and corrective action, if applicable; repetitive inspections and C.I.C. applications; and modification of the aft trunnion area of the outer cylinder, which terminates the need for the repetitive inspections and C.I.C. applications. This proposed AD would also require, for certain other airplanes, repetitive inspections for cracks or corrosion, corrective action if necessary, and repetitive C.I.C. applications. This proposed AD is prompted by a report that JC5A was used on more airplanes during production than previously identified. We are proposing this AD to prevent severe corrosion in the main landing gear (MLG) outer cylinder at the aft trunnion, which could develop into stress corrosion cracking and consequent collapse of the MLG.

DATES: We must receive comments on this proposed AD by November 15, 2004.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or at the Docket Management Facility, U.S. Department of Transportation, 400 Seventh Street SW., room PL-401, on the plaza level of the Nassif Building, Washington, DC.

FOR FURTHER INFORMATION CONTACT: Technical information: Suzanne Masterson, Aerospace Engineer, Airframe Branch, ANM-120S, FAA, Seattle Aircraft Certification Office, 1601 Lind Avenue, SW., Renton, Washington 98055-4056; telephone (425) 917-6441; fax (425) 917-6590.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19201; Directorate Identifier 2003-NM-100-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On April 11, 2002, we issued AD 2002-08-07, amendment 39-12715 (67 FR 19322, April 19, 2002), for all Boeing Model 767-200, -300, and -300F series airplanes. That AD requires examination of maintenance records to determine if Titanine JC5A (also known as Desoto 823E508, and hereafter collectively referred to as JC5A) corrosion inhibiting compound (“C.I.C.”) was ever used; inspection for cracks or corrosion and corrective action, if applicable; repetitive inspections and C.I.C. applications; and modification of the aft trunnion area of the outer cylinder, which terminates the need for the repetitive inspections and C.I.C. applications. That AD was prompted by reports of an approved C.I.C. causing severe corrosion in the MLG at the outer cylinder aft trunnion on Boeing Model 767 series airplanes. We issued that AD to prevent severe corrosion in the MLG outer cylinder at the aft trunnion, which could develop into stress corrosion cracking and consequent collapse of the MLG.

Actions Since Existing AD Was Issued

Since we issued AD 2002-08-07, we have determined that the identified unsafe condition (i.e., corrosion in the aft trunnion caused by the use of JC5A, a C.I.C. that deteriorates over time and degrades primer and cadmium plating when it comes into contact with moisture) addressed in that AD could still exist on 15 Model 767-200, -300, and -300F series airplanes of U.S. registry (within the group of line numbers (L/N) 834 through 874 inclusive). We have been advised that JC5A was used on more airplanes during production than those previously identified in the original issue of Boeing Alert Service Bulletin 767-32A0192. Based on previous information and the records examination required by AD 2002-08-07, an operator could have incorrectly determined that JC5A had not been used on certain airplanes and consequently not corrected the unsafe condition. Therefore, we have determined that these airplanes are subject to the inspections, C.I.C applications, and modification required by AD 2002-08-07.

Relevant Service Information

We have reviewed Boeing Alert Service Bulletin 767-32A0192, Revision 1, dated March 13, 2003. The procedures specified in Revision 1 of the service bulletin are essentially the same as the procedures specified in the original issue of the service bulletin, as cited in AD 2002-08-07. Revision 1 of the service bulletin identifies affected airplanes, L/Ns 834 through 874, as assembled new with JC5A in the outer cylinder aft trunnion. Accomplishing the actions specified in the service information is intended to adequately address the unsafe condition.

FAA's Determination and Requirements of the Proposed AD

We have evaluated all pertinent information and identified an unsafe condition that is likely to exist or develop on other products of this same type design. Therefore, we are proposing this AD, which would supersede AD 2002-08-07. This proposed AD would continue to require, for certain airplanes, examination of maintenance records to determine if JC5A C.I.C. was ever used; inspection for cracks or corrosion and corrective action, if applicable; repetitive inspections and C.I.C. applications; and modification of the aft trunnion area of the outer cylinder, which terminates the need for the repetitive inspections and C.I.C. applications. This proposed AD would also require, for certain other airplanes, repetitive inspections for cracks or corrosion, corrective action if necessary, and repetitive C.I.C. applications. This proposed AD would require you to use the service information described previously to perform these actions except as discussed under “Differences Between the Proposed AD and the Service Bulletins.”

Differences Between the Proposed AD and the Service Bulletins

Operators should note that, although the Accomplishment Instructions of the referenced service bulletins require reporting all corrosion found in the aft trunnions of certain airplanes, this proposed AD would not require that action.

Change to Existing AD

This proposed AD would retain all requirements of AD 2002-08-07. Since AD 2002-08-07 was issued, the AD format has been revised, and certain paragraphs have been rearranged. As a result, the corresponding paragraph identifiers have changed in this proposed AD, as listed in the following table:

Revised Paragraph Identifiers
Requirement in AD 2002-08-07 | Corresponding requirement in this proposed AD
Paragraph (a) | Paragraph (g).
Paragraph (b) | Paragraph (h).
Paragraph (c) | Paragraph (i).
Paragraph (d) | Paragraph (j).
Paragraph (e) | Paragraph (k).
Paragraph (f) | Paragraph (l).
Paragraph (g) | Paragraph (m).
Paragraph (h) | Paragraph (n).
Paragraph (i) | Paragraph (q).
Paragraph (j) | Paragraph (r).
Paragraph (k) | Paragraph (o).
Paragraph (l) | Paragraph (p).

We have also changed all references to the ambiguous time of “years ago” in paragraphs (j)(2), (j)(3), (k)(2)(i)(A), (k)(2)(i)(B), and (m)(2) of this proposed AD to “years before May 6, 2002.”

Costs of Compliance

There are about 848 airplanes of the affected design in the worldwide fleet. This proposed AD would affect about 357 airplanes of U.S. registry. The new requirements of this proposed AD add no additional economic burden for operators affected by AD 2002-08-07. The current costs for this AD are repeated for the convenience of affected operators, as follows:

Estimated Costs
Action | Work hours | Average labor rate per hour | Parts | Cost per airplane | Fleet cost
C.I.C. Application | 1 | $65 | (¹) | $65, per application cycle | $23,205 per application cycle.
Cross Bolt Hole Inspection—Bushings Removed | 2 | 65 | (¹) | 130 | 46,410.
Restoration for Bushings Removed | 6 | 65 | (¹) | 390 | 139,230.
Cross Bolt Inner Chamfer Inspection—Bushings Not Removed | 2 | 65 | (¹) | 130, per inspection cycle | 46,410, per inspection cycle.
Restoration for Bushings Not Removed | 6 | 65 | (¹) | 390 | 139,230.
Terminating Action | 64 | 65 | 6,356 | 10,581 | 3,777,417.
¹ None.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12715 (67 FR 19322, April 19, 2002) and adding the following new airworthiness directive (AD):

Boeing: Docket No. FAA-2004-19201; Directorate Identifier 2003-NM-100-AD.

Comments Due Date

(a) The Federal Aviation Administration must receive comments on this airworthiness directive (AD) action by November 15, 2004.

Affected ADs

(b) This AD supersedes AD 2002-08-07, amendment 39-12715 (67 FR 19322, April 19, 2002).

Applicability: (c) This AD applies to all Boeing Model 767-200, -300, and -300F series airplanes, certificated in any category.

Unsafe Condition

(d) This AD was prompted by a report that Titanine JC5A (also known as Desoto 823E508) was used on more airplanes during production than previously identified. We are issuing this AD to prevent severe corrosion in the main landing gear (MLG) outer cylinder at the aft trunnion, which could develop into stress corrosion cracking and consequent collapse of the MLG.

Compliance: (e) You are responsible for having the actions required by this AD performed within the compliance times specified, unless the actions have already been done.

Requirements of AD 2002-08-07, Amendment 39-9783: Line Numbers (L/N) 1 Through 833 Inclusive, and 875 and Subsequent

(f) For airplanes with L/Ns 1 through 833 inclusive, and 875 and subsequent:

Do the actions specified in paragraphs (g) through (q) of this AD, as applicable.

Records Examination

(g) Within 90 days after May 6, 2002 (the effective date of AD 2002-08-07, amendment 39-9783), examine airplane records to determine if Titanine JC5A or Desoto 823E508 (hereafter collectively referred to as “JC5A”) corrosion inhibiting compound (“C.I.C.”) was used in the aft trunnion area of the MLG outer cylinder during general maintenance, overhaul, or incorporation of Boeing Alert Service Bulletin 767-32A0148, dated December 21, 1995; Revision 1, dated October 10, 1996 (required by paragraph (e) of AD 96-21-06, amendment 39-9783); or Revision 2, dated November 30, 2000; in accordance with Boeing Alert Service Bulletin 767-32A0192, dated May 31, 2001; or Revision 1, dated March 13, 2003. If records do not show conclusively which compound was used, assume JC5A was used. Refer to Boeing Alert Service Bulletin 767-32A0192, dated May 31, 2001, for the line numbers of airplanes that were assembled new using JC5A.

Note 1: Prior to January 31, 2001, if BMS 3-27 was ordered from Boeing, Boeing shipped JC5A as a substitute.

MLGs on Which JC5A Was Not Used

(h) Except as provided by paragraph (p) (“Use of JC5A Prohibited”) of this AD, if, according to the criteria of paragraph (g) of this AD, JC5A was never used, no further action is required by this AD.

C.I.C. Applications, Inspections, and Corrective Actions if Necessary

(i) For Category 1 MLG outer cylinders as identified in Boeing Alert Service Bulletin 767-32A0192, dated May 31, 2001: If, according to the criteria of paragraph (g) of this AD, JC5A may have been used, perform the actions specified in both paragraphs (j) and (k) of this AD, as applicable, in accordance with Boeing Alert Service Bulletin 767-32A0192, dated May 31, 2001; or Revision 1, dated March 13, 2003.

(j) For MLGs and MLG outer cylinders identified in paragraphs (j)(1), (j)(2), and (j)(3) of this AD: Within 90 days after May 6, 2002, perform the C.I.C. application on the MLG in accordance with “Part 3—C.I.C. Application” of the Accomplishment Instructions of Boeing Alert Service Bulletin 767-32A0192, dated May 31, 2001; or Revision 1, dated March 13, 2003. Thereafter, repeat at intervals not to exceed 180 days until the terminating action required by paragraph (q) of this AD has been accomplished.

(1) MLG outer cylinders that are less than 3 years old since new.

(2) MLGs that have been overhauled less than 3 years before May 6, 2002.

(3) MLGs on which rework per Boeing Alert Service Bulletin 767-32A0148, dated December 21, 1995; Revision 1, dated October 10, 1996; or Revision 2, dated November 30, 2000, was accomplished less than 3 years before May 6, 2002.

(k) Before the MLG outer cylinder is 3 years old since new, since last overhaul, or since rework per Boeing Alert Service Bulletin 767-32A0148, dated December 21, 1995; Revision 1, dated October 10, 1996; or Revision 2, dated November 30, 2000; or within 90 days after May 6, 2002; whichever is later; perform a detailed inspection for cracks and corrosion of the cross bolt bushing holes and chamfers in accordance with “Part 1—Cross Bolt Hole Inspection—Bushings Removed” of the Accomplishment Instructions of Boeing Alert Service Bulletin 767-32A0192, dated May 31, 2001; or Revision 1, dated March 13, 2003.

Note 2: For the purposes of this AD, a detailed inspection is defined as: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If no crack or corrosion is found during the detailed inspection required by paragraph (k) of this AD, perform the actions in paragraphs (k)(1)(i), (k)(1)(ii), and (k)(1)(iii) of this AD, at the applicable times indicated.

(i) Before further flight, perform the restoration steps shown in Figure 2 of the service bulletin; and thereafter at intervals not to exceed 180 days, perform the C.I.C. application on the landing gear in accordance with “Part 3—C.I.C. Application” of the Accomplishment Instructions of the service bulletin.

(ii) Within 18 months after performing the detailed inspection required by paragraph (k) of this AD, and thereafter at intervals not to exceed 18 months, perform the detailed inspection for cracks and corrosion of the cross bolt hole inner chamfer, in accordance with “Part 2—Cross Bolt Hole Inner Chamfer Inspection—Bushings Not Removed” of the Accomplishment Instructions of the service bulletin, until the terminating action required by paragraph (q) of this AD has been accomplished.

(iii) Before the MLG cylinder is 6½ years old since new, since last overhaul, or since rework per Boeing Alert Service Bulletin 767-32A0148, dated December 21, 1995; Revision 1, dated October 10, 1996; or Revision 2, dated November 30, 2000; whichever is later; perform the terminating action described in paragraph (q) of this AD.

(2) If any corrosion is found on the cross bolt holes or outer chamfers during the detailed inspection required by paragraph (k) of this AD, before further flight, remove the corrosion per Figure 2 of the service bulletin.

(i) If all of the corrosion can be removed: Before further flight, perform the restoration steps shown in Figure 2 of the service bulletin; thereafter at intervals not to exceed 180 days, perform the C.I.C. application on the MLG in accordance with “Part 3—C.I.C. Application” of the Accomplishment Instructions of the service bulletin; and perform the terminating action described in paragraph (q) of this AD, at the applicable time specified in paragraph (k)(2)(i)(A) or (k)(2)(i)(B) of this AD.

(A) If the MLG outer cylinder is less than 5 years old since new, if the MLG was last overhauled less than 5 years before May 6, 2002, or if rework per Boeing Alert Service Bulletin 767-32A0148, dated December 21, 1995; Revision 1, dated October 10, 1996; or Revision 2, dated November 30, 2000; was accomplished less than 5 years before May 6, 2002: Within 18 months after performing the detailed inspection required by paragraph (k) of this AD.

(B) If the MLG outer cylinder is 5 years old or more since new, if the MLG was last overhauled 5 years or more before May 6, 2002, or if rework per Boeing Alert Service Bulletin 767-32A0148, dated December 21, 1995; Revision 1, dated October 10, 1996; or Revision 2, dated November 30, 2000; was accomplished 5 years or more before May 6, 2002: Before the MLG outer cylinder is 6½ years old since new, since last overhaul, or since rework per Boeing Alert Service Bulletin 767-32A0148, dated December 21, 1995; Revision 1, dated October 10, 1996; or Revision 2, dated November 30, 2000; whichever is later.

(ii) If any corrosion cannot be removed, before further flight, perform the terminating action described in paragraph (q) of this AD.

(3) If any crack is found anywhere during the detailed inspection required in paragraph (k) of this AD, or if corrosion in the inner cross bolt hole chamfers is found, before further flight, perform the terminating action described in paragraph (q) of this AD.

(l) For Category 2 MLG outer cylinders as identified in Boeing Alert Service Bulletin 767-32A0192, dated May 31, 2001: If, according to the criteria of paragraph (g) of this AD, JC5A may have been used, perform the actions specified in both paragraphs (m) and (n) of this AD, as applicable, in accordance with Boeing Alert Service Bulletin 767-32A0192, dated May 31, 2001; or Revision 1, dated March 13, 2003.

(m) For MLGs and MLG outer cylinders identified in paragraphs (m)(1) and (m)(2) of this AD: Within 90 days after May 6, 2002, perform the C.I.C. application on the MLG in accordance with “Part 3—C.I.C. Application” of the Accomplishment Instructions of Boeing Alert Service Bulletin 767-32A0192, dated May 31, 2001; or Revision 1, dated March 13, 2003. Thereafter, repeat the application at intervals not to exceed 180 days until the terminating action required by paragraph (q) of this AD has been accomplished.

(1) MLG outer cylinders that are less than 3 years old since new.

(2) MLGs that have been overhauled less than 3 years before May 6, 2002.

(n) Before the MLG outer cylinder is 3 years old since new or since the last overhaul, or within 90 days after May 6, 2002, whichever is later, perform a detailed inspection for cracks and corrosion of the cross bolt hole inner chamfer, in accordance with “Part 2—Cross Bolt Hole Inner Chamfer Inspection—Bushings Not Removed” of the Accomplishment Instructions of Boeing Alert Service Bulletin 767-32A0192, dated May 31, 2001; or Revision 1, dated March 13, 2003.

(1) If no crack or corrosion is found during the inspection required by paragraph (n) of this AD, before further flight, and thereafter at intervals not to exceed 180 days, perform the C.I.C. application on the MLG in accordance with “Part 3—C.I.C. Application” of the Accomplishment Instructions of the service bulletin, until the next MLG overhaul. After the next MLG overhaul has been completed, no further action is required by this AD.

(2) If any corrosion is found during the detailed inspection required by paragraph (n) of this AD, before further flight, remove the cross bolt bushings and perform the detailed inspection specified in paragraph (k) of this AD, and remove the corrosion per Figure 2 of the service bulletin.

(i) If all of the corrosion can be removed, perform the actions specified in paragraph (n)(2)(i)(A) and (n)(2)(i)(B) of this AD, at the applicable times indicated.

(A) Prior to further flight, perform the restoration steps shown in Figure 2 of the service bulletin; and thereafter at intervals not to exceed 180 days, perform the C.I.C. application on the MLG in accordance with “Part 3—C.I.C. Application” of the Accomplishment Instructions of the service bulletin.

(B) Within 18 months after the corrosion removal required by paragraph (n)(2) of this AD, perform the terminating action described in paragraph (q) of this AD.

(ii) If all the corrosion cannot be removed, before further flight, perform the terminating action required by paragraph (q) of this AD.

(3) If any crack is found during the detailed inspection required by paragraph (n) of this AD, before further flight, perform the terminating action described in paragraph (q) of this AD.

Parts Installation

(o) As of May 6, 2002, no person shall install on any airplane an MLG outer cylinder unless maintenance records conclusively show that JC5A has never been used on that MLG outer cylinder, or unless it complies with paragraph (q) of this AD.

Use of JC5A Prohibited

(p) As of May 6, 2002, no person shall use the C.I.C. JC5A in the aft trunnion area of the MLG outer cylinder on any airplane.

Terminating Action

(q) Perform the terminating action (including removal of the existing bushings, repair of the aft trunnion area of the outer cylinder, and machining and installation of new bushings) in accordance with “Part 4—Terminating Action” of the Accomplishment Instructions of Boeing Alert Service Bulletin 767-32A0192, dated May 31, 2001; or Revision 1, dated March 13, 2003. Completion of the terminating action terminates the requirements for the repetitive inspections and C.I.C. applications of this AD.

Credit for Terminating Action

(r) For all airplanes, accomplishment of the actions specified in paragraph (q) of this AD is considered acceptable for compliance with the requirements of paragraph (e) of AD 2002-01-13, amendment 39-12607.

New Requirements of This AD: L/Ns 834 Through 874 Inclusive

(s) For airplanes with L/Ns 834 through 874 inclusive: Do the actions specified in paragraphs (s)(1), (s)(2), and (s)(3) of this AD.

(1) Within 90 days after the effective date of this AD, and thereafter at intervals not to exceed 180 days: Do the actions specified in paragraph (m) of this AD until the terminating action required by paragraph (q) of this AD has been accomplished.

(2) Before the MLG outer cylinder is 3 years old since new or since last overhaul, or within 90 days after the effective date of this AD, whichever is later: Do the actions as specified in paragraph (n) of this AD.

(3) As of the effective date of this AD, the actions specified in paragraphs (o) and (p) of this AD must be complied with.

Reporting Requirement

(t) Although the service bulletins referenced in this AD specify to submit certain information to the manufacturer, this AD does not include such a requirement.

Alternative Methods of Compliance (AMOCs)

(u)(1) The Manager, Seattle Aircraft Certification Office (ACO), FAA, has the authority to approve AMOCs for this AD, if requested in accordance with the procedures found in 14 CFR 39.19.

(2) An AMOC that provides an acceptable level of safety may be used for any repair required by this AD, if it is approved by a Boeing Company Designated Engineering Representative who has been authorized by the Manager, Seattle ACO, to make those findings. For a repair method to be approved, the approval must specifically refer to this AD.

Issued in Renton, Washington, on September 20, 2004.
Kalene C. Yanamura,
Acting Manager, Transport Airplane Directorate, Aircraft Certification Service.

[FR Doc. 04-21820 Filed 9-28-04; 8:45 am]

BILLING CODE 4910-13-P